DEPARTMENT OF TRANSPORTATION

[Docket No. PHMSA-2010-0202; Notice No. 10-5]

Safety Advisory Notice: Personal Electronic Device Related Distractions

AGENCY: Pipeline and Hazardous Materials Safety Administration (PHMSA); DOT.

ACTION: Notice.

SUMMARY: PHMSA is issuing a safety advisory notice to remind offerors and carriers of hazardous materials of the risks associated with the use of personal electronic devices (PEDs) by individuals operating motor vehicles that contain hazardous materials.

FOR FURTHER INFORMATION CONTACT: Stuart Streck by telephone at (404) 832-1140 or by e-mail at stuart.streck@dot.gov. General information about the Department of Transportation initiative on distracted driving may be found at http://www.distractions.gov. Information about PHMSA may be found at http://phmsa.dot.gov.

SUPPLEMENTARY INFORMATION: Research conducted by the United States Department of Transportation (DOT) and other governmental and non-governmental organizations has shown the danger posed by drivers who are distracted by cellular telephones and other PEDs. For example, Virginia Tech Transportation Institute conducted a study under contract with Federal Motor Carrier Safety Administration (FMCSA) entitled “Driver Distraction in Commercial Vehicle Operations.” The final report, released on October 1, 2009, found that text messaging on a cellular telephone increased the risk of a safety-critical event by 23.2 percent.

The DOT is leading the effort to end the dangerous practice of distracted driving on our nation's roadways and in other modes of transportation. The FMCSA recently initiated a rulemaking designed to prohibit texting by commercial motor vehicle (CMV) drivers operating in interstate commerce and to impose sanctions for drivers who fail to comply. See Limiting the Use of Wireless Communication Devices, 75 FR 16391 (proposed Apr. 1, 2010). The majority of the 50 states have forbidden the operation of PEDs while driving any motor vehicle. See DOT Distracted Driving Web site, http://www.distractions.gov; see also Insurance Institute for Highway Safety Web site, http://www.iihs.org/.

PHMSA's Office of Hazardous Materials Safety is the Federal safety authority for the transportation of hazardous materials by air, rail, highway, and water. Safety is at the core of PHMSA's mission. PHMSA strives to reduce the risk of harm from the transportation of hazardous materials. In light of PHMSA's vital safety mission, we issue this advisory bulletin to raise awareness of the problems and dangers presented by the use of PEDs by hazardous materials drivers.

Operators of vehicles transporting hazardous materials should guard against distraction, including the use of PEDs while operating a vehicle. All CMV drivers transporting hazardous materials should be aware that the use of a PED while driving constitutes a safety risk to themselves, other motorists, and bystanders. The consequences of using PEDs while driving can include state and local sanctions, FMCSA fines, and possible revocation of commercial driver's licenses.

In addition, businesses that prepare or transport hazardous materials in commerce should be aware that the dangers of distracted driving are heightened due to the risk of the release of hazardous materials in the event of an accident. Accordingly, hazardous materials companies should institute policies and provide awareness training to discourage the use of PEDs by drivers. PHMSA recognizes that there are already members of the hazardous materials transportation community with policies in place that exceed the legal requirements for curbing the risk of distracted driving. PHMSA applauds these and all other efforts to enhance the safety of hazardous materials transportation.

Issued in Washington, DC, on July 27, 2010.
Magdy El-Sibaie,
Associate Administrator for Hazardous Materials Safety.

[FR Doc. 2010-18944 Filed 8-2-10; 8:45 am]

BILLING CODE 4910-60-P